DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit # | Issuing port
Pamela C. Escarre | 20-02-AKH | New Orleans
UPS Customhouse Brokerage, Inc. | 07-97-955 | Champlain
GPS Customhouse Brokerage, Inc. | 52-03-W22 | Miami
Farias & Farias, Inc. | 53-03-DMO | Houston
AIT Custom Brokerage, Inc. | 20508 | Philadelphia
Pegasus International Customs Brokers, Inc | 52-03-ATH | Miami
Christian L. Bustamante | 52-03-ASE | Miami
Joseph G. Shill | 5201KX5 | Miami

Dated: April 26, 2004.
Jayson P. Ahern,
Assistant Commissioner, Office of Field Operations.

[FR Doc. 04-10060 Filed 5-3-04; 8:45 am]

BILLING CODE 4820-02-P